DEPARTMENT OF COMMERCE

Census Bureau

[Docket No.: 050617160-5297-02]

Privacy Act of 1974: System of Records

AGENCY: Department of Commerce.

ACTION: Notice; COMMERCE/CENSUS-5, Population and Housing Census Records of the 2000 Census Including Preliminary Statistics for the 2010 Decennial Census.

SUMMARY: The Department of Commerce (Commerce) publishes this notice to announce the effective date of a Privacy Act System of Records notice entitled COMMERCE/CENSUS-5, Population and Housing Census Records of the 2000 Census Including Preliminary Statistics for the 2010 Decennial Census.

DATES: The system of records becomes effective on February 21, 2006.

ADDRESSES: For a copy of the system of records please mail requests to Gerald W. Gates, Chief Privacy Officer, U.S. Census Bureau, Washington, DC 20233, 301-763-2515.

FOR FURTHER INFORMATION CONTACT: Gerald W. Gates, Chief Privacy Officer, U.S. Census Bureau, Washington, DC 20233, 301-763-2515.

SUPPLEMENTARY INFORMATION: On July 11, 2005, the Commerce published and requested comments on a proposed amended Privacy Act System of Records notice entitled COMMERCE/CENSUS-5, Population and Housing Census Records of the 2000 Census Including Preliminary Statistics for the 2010 Decennial Census. No comments were received in response to the request for comments. By this notice, the Department is adopting the proposed system as final without changes effective February 21, 2006.

Dated: February 13, 2006.
Brenda Dolan,
Departmental Freedom of Information and Privacy Act Officer.

[FR Doc. E6-2392 Filed 2-17-06; 8:45 am]

BILLING CODE 3510-07-P